DEPARTMENT OF COMMERCE

International Trade Administration

[A-570-849, A-821-808, A-823-808]

Continuation of Antidumping Duty Order on Certain Cut-to-Length Carbon Steel Plate From the People's Republic of China and Continuation of Suspended Antidumping Duty Investigations on Certain Cut-to-Length Carbon Steel Plate From the Russian Federation and Ukraine

AGENCY: Enforcement and Compliance, International Trade Administration, Department of Commerce.

SUMMARY: As a result of the respective determinations by the Department of Commerce (“the Department”) and the International Trade Commission (“ITC”) that revocation of the antidumping duty order on certain cut-to-length carbon steel plate (“CTL plate”) from the People's Republic of China (“PRC”), and the termination of the suspension agreements and the underlying antidumping duty investigations on CTL plate from the Russian Federation (“Russia”) and Ukraine (collectively, “the Agreements”), would likely lead to continuation or recurrence of dumping and material injury to an industry in the United States, the Department is publishing this notice of continuation of the antidumping duty order on CTL plate from the PRC and continuation of the Agreements on CTL plate from Russia and Ukraine.

DATES: Effective Date: December 21, 2015.

FOR FURTHER INFORMATION CONTACT: Howard Smith (PRC), David Cordell (Russia) or Julie Santoboni (Ukraine), Enforcement and Compliance, International Trade Administration, U.S. Department of Commerce, 14th Street and Constitution Avenue NW., Washington, DC 20230; telephone (202) 482-5193, (202) 482-0408 or (202) 482-3063, respectively.

SUPPLEMENTARY INFORMATION:

Background

The Department initiated, and the ITC instituted, sunset reviews of the antidumping duty order on CTL plate from the PRC and the Agreements on CTL plate from Russia and Ukraine, pursuant to section 751(c) of the Tariff Act of 1930, as amended (“the Act”). See Initiation of Five-year (“Sunset”) Reviews, 79 FR 59216 (October 1, 2014) and Cut-To-Length Carbon Steel Plate From China, Russia, and Ukraine: Notice of Commission Determinations to Conduct Full Five-Year Reviews, 80 FR 2443 (January 16, 2015).

As a result of its reviews, pursuant to sections 751(c) and 752 of the Act, the Department determined that revocation of the antidumping duty order on CTL plate from the PRC and termination of the Agreements on CTL plate from Russia and Ukraine would likely lead to a continuation or recurrence of dumping and notified the ITC of the magnitude of the margins likely to prevail, should the order and the Agreements be revoked or terminated, respectively. See Certain Cut-to-Length Carbon Steel Plate From the People's Republic of China: Final Results of the Expedited Third Sunset Review of the Antidumping Duty Order, 80 FR 6051 (February 4, 2015), Certain Cut-to-Length Carbon Steel Plate from the Russian Federation and Ukraine; Final Results of the Expedited Third Sunset Reviews of the Suspension Agreements, 80 FR 6052 (February 4, 2015).

On December 9, 2015, pursuant to section 751(c) of the Act, the ITC determined that revocation of the antidumping duty order on CTL plate from the PRC and termination of the Agreements on CTL plate from Russia and Ukraine would be likely to lead to continuation or recurrence of material injury to an industry in the United States within a reasonably foreseeable time. See Cut-to-Length Carbon Steel Plate From China, Russia, and Ukraine, 80 FR 76575 (December 9, 2015).

Therefore, pursuant to section 351.218(f)(4) of the Department's regulations, the Department is publishing this notice of the continuation of the antidumping duty order on CTL plate from the PRC and continuation of the Agreements on CTL plate from Russia and Ukraine.

Scope

The products covered under the antidumping duty order and the Agreements are hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this order and these Agreements are flat-rolled products of nonrectangular cross- section where such cross-section is achieved subsequent to the rolling process (i.e., products which have been “worked after rolling”)—for example, products which have been bevelled or rounded at the edges. This merchandise is currently classified in the Harmonized Tariff Schedule of the United States (“HTSUS”) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Excluded from the subject merchandise within the scope of this order and these Agreements is grade X-70 plate. Although the HTSUS subheadings are provided for convenience and customs purposes, our written description of the scope of the order and the Agreements is dispositive.

Continuation

As a result of the respective determinations by the Department and the ITC that revocation of the antidumping duty order on CTL plate from the PRC and termination of the Agreements on CTL plate from Russia and Ukraine would likely lead to continuation or recurrence of dumping and material injury to an industry in the United States, pursuant to section 751(d)(2) of the Act, the Department hereby gives notice of the continuation of the antidumping duty order on CTL plate from the PRC and the continuation of the Agreements on CTL plate from Russia and Ukraine. The effective dates of continuation will be the date of publication in the Federal Register of this Continuation Notice. Pursuant to sections 751(c)(2) and 751(c)(6) of the Act, the Department intends to initiate the next five-year sunset reviews of the antidumping duty order on CTL plate from the PRC and the Agreements on CTL plate from Russia and Ukraine not later than November 2019.

These five-year (sunset) reviews and notice are in accordance with section 751(c) of the Act and published pursuant to section 777(i)(1) of the Act and 19 CFR 351.218(f)(4).

Dated: December 15, 2015.
Paul Piquado,
Assistant Secretary for Enforcement and Compliance.

[FR Doc. 2015-32022 Filed 12-18-15; 8:45 am]

BILLING CODE 3510-DS-P